ENVIRONMENTAL PROTECTION AGENCY

40 CFR Part 52

[MA-088-7216C; A-1-FRL-7509-2]

State of Massachusetts; Withdrawal of Direct Final Rule

AGENCY: Environmental Protection Agency (EPA).

ACTION: Withdrawal of direct final rule.

SUMMARY: On April 8, 2003, EPA published a proposed rule (68 FR 17002) and a direct final rule (68 FR 16959) conditionally approving revisions to section 310 CMR 7.06 entitled “Visible Emissions” as a State Implementation Plan (SIP) revision for the Commonwealth of Massachusetts. In the direct final rule published on April 8, 2003, we stated that if we received adverse comment by May 8, 2003, the rule would be withdrawn and not take effect. EPA subsequently received adverse comments, and thus EPA is withdrawing the final rule. EPA will address the comments received in a subsequent final action based upon the proposed action also published on April 8, 2003 (68 FR 17002). EPA will not institute a second comment period on this action.

DATES: This withdrawal of the direct final action is made as of June 6, 2003.

FOR FURTHER INFORMATION CONTACT: Jeffrey S. Butensky, Environmental Planner, (617) 918-1665; butensky.jeff@epa.gov.

List of Subjects in 40 CFR Part 52

Environmental protection, Air pollution control, Intergovernmental relations, Particulate matter, Reporting and recordkeeping requirements.

Dated: May 28, 2003.
Ira W. Leighton,
Acting Regional Administrator, EPA New England.

[FR Doc. 03-14189 Filed 6-5-03; 8:45 am]

BILLING CODE 6560-50-P